ENVIRONMENTAL PROTECTION AGENCY

40 CFR Part 180

[EPA-HQ-OPP-2011-0082; FRL-9328-8]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before January 9, 2012.

ADDRESSES: Submit your comments, identified by docket identification (ID) number and the pesticide petition (PP) number of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or email. The regulations.gov Web site is an “anonymous access” system, which means EPA will not know your identity or contact information unless you provide it in the body of your comment. If you send an email comment directly to EPA without going through regulations.gov, your email address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and email address, is listed at the end of each pesticide petition summary. You may also reach each contact person by mail at Registration Division (7505P), Office of Pesticide Programs, Environmental Protection Agency, 1200 Pennsylvania Ave. NW., Washington, DC 20460-0001.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available on-line at http://www.regulations.gov.

As specified in FFDCA section 408(d)(3), (21 U.S.C. 346a(d)(3)), EPA is publishing notice of the petitions so that the public has an opportunity to comment on the requests for the establishment or modification of regulations for residues of pesticides in or on food commodities. Further information on the petitions may be obtained through the petition summaries referenced in this unit.

New Tolerances

1. PP 1E7923. (EPA-HQ-OPP-2011-0860). Interregional Research Project Number 4 (IR-4), IR-4 Project Headquarters, Rutgers, The State University of New Jersey, 500 College Road East, Suite 201 W, Princeton, NJ 08450, requests to establish tolerances in 40 CFR part 180 for residues of the insecticide clothianidin, (E)-1-(2-chloro-1,3-thiazol-5-ylmethyl)-3-methyl-2-nitroguanidine, in or on strawberry at 1.4 parts per million (ppm); citrus fruit group 10-10 at 0.5 ppm; citrus, dried pulp at 1 ppm; pistachio at 0.01 ppm; and tea, plucked leaves at 50 ppm. Adequate enforcement methodology (liquid chromatography/mass spectroscopy/mass spectroscopy) (LC/MS/MS) analysis is available to enforce the tolerance expression. Contact: Sidney Jackson, (703) 305-7610, email address: jackson.sidney@epa.gov.

2. PP 1E7925. (EPA-HQ-OPP-2011-0905). Interregional Research Project Number 4 (IR-4), 500 College Road East, Suite 201 W, Princeton, NJ 08540, requests to establish tolerances in 40 CFR part 180 for residues of the insecticide etofenprox, [2-(4-ethoxyphenyl)-2-methylpropyl 3-phenoxybenzyl ether], in or on food and feed commodities at 0.5 ppm. An aliquot was purified by solid phase extraction (graphitized carbon black for alfalfa, snap bean pods with seed, and leaf lettuce and HAX solid phase extraction for pasture grass and snap bean foliage). The purified extract was concentrated to dryness, reconstituted in acetonitrile:water, and submitted to LC/MS/MS analysis. Contact: Andrew Ertman, (703) 308-9367, email address: ertman.andrew@epa.gov.

3. PP 1E7929. (EPA-HQ-OPP-2011-0906). Interregional Research Project Number 4 (IR-4), 500 College Road East, Suite 201 W, Princeton, NJ 08540, requests to establish tolerances in 40 CFR part 180 for residues of the fungicide cyazofamid, 4-chloro-2-cyano-N,N-dimethyl-5-(4-methylphenyl)-1H-imidazole-1-sulfonamide (CA) and its metabolite CCIM, 4-chloro-5-(4-methylphenyl)-1H-imidazole-2-carbonitrile (CA), expressed as cyazofamid, in or on bean, succulent at 0.4 ppm; bean, succulent, shelled at 0.07 ppm; leafy greens, subgroup 4A at 9.0 ppm; basil, fresh leaves at 30.0 ppm; basil, dried leaves at 80.0 ppm; vegetable, tuberous and corm, subgroup 1C at 0.02 ppm; and vegetable, fruiting, group 8-10 at 0.40 ppm. LC/MS/MS is used to measure and evaluate the residues of cyazofamid. Contact: Laura Nollen, (703) 305-7390, email address: nollen.laura@epa.gov.

4. PP 1F7916. (EPA-HQ-OPP-2011-0781). Canyon Group LLC, c/o Gowan Company, 370 South Main St., Yuma, AZ 85364, requests to establish tolerances in 40 CFR part 180 for residues of the herbicide halosulfuron-methyl, methyl 5-[(4,6-dimethoxy-2-pyrimidinyl)amino]carbonylaminosul-fonyl]-3-chloro-1-methyl-1H-pyrazole-4-carboxylate, and its metabolites and degradates, in or on millet, proso, forage at 7.0 ppm; millet, proso, hay at 0.02 ppm; millet, proso, grain at 0.01 ppm; millet, proso, straw at 0.01 ppm; grass forage, fodder, and hay, crop group 17, forage at 17.0 ppm; and grass forage, fodder, and hay, crop group 17, hay at 0.9 ppm. A practical analytical method, gas chromatography with a nitrogen-specific detector (GC-NSD), is available for enforcement purposes. The analytical method accounts for parent halosulfuron-methyl and for the halosulfuron-methyl rearrangement ester, sometimes referred to as “RRE” and “MON 5781.” This product results from the abstraction for the SO2NHCO moiety between the rings, such that the two rings are then joined together only by an NH group. Contact: Maggie Rudick, (703) 347-0257, email address: rudick.maggie@epa.gov.

5. PP 1F7927. (EPA-HQ-OPP-2011-0873). FMC Corporation, 1735 Market St., Philadelphia, PA 19103, requests to establish tolerances in 40 CFR part 180 for residues of the herbicide, fluthiacet-methyl, acetic acid [[2-chloro-4-fluoro-5-[(tetrahydro-3-oxo-1H, 3H-[1,3,4]thiadiazolo[3,4-α]pyridazin-1-ylidene)amino]phenyl] thio]-methyl ester, and its acid metabolite fluthiacet, [[2-chloro-4-fluoro-5-[(tetrahydro-3-oxo-1H, 3H-[1,3,4]thiadiazolo[3,4-α]pyridazin-1-ylidene)amino]phenyl]thio]], in or on the raw agricultural commodities of crop group 15 (except rice): grain, cereal at 0.01 ppm; grain, cereal, forage at 0.05 ppm; grain, cereal, hay at 0.05 ppm; grain, cereal, stover at 0.05 ppm; grain, cereal, straw at 0.05 ppm; and crop subgroup 6C: pea and bean (except soybean), dried shelled at 0.01 ppm. The analytical enforcement method for fluthiacet-methyl was used with minor modification. The analytical method for all crop matrices consisted of solvent extraction using a high speed mixer, followed by centrifugation. An aliquot of the resulting supernatant was filtered and diluted as necessary for quantitation by high performance liquid chromatography with tandem mass spectrometric detection (HPLC/MS/MS). Contact: Bethany Benbow, (703) 347-8072, email address: benbow.bethany@epa.gov.

6. PP 8F7463. (EPA-HQ-OPP-2009-0364). Bayer CropScience, 2 T.W. Alexander Drive, Research Triangle Park, NC 27709, requests to establish tolerances in 40 CFR part 180 for indirect or inadvertent residues of the fungicide fluopyram, (N-[2-[3-chloro-5-(trifluoromethyl)-2-pyridinyl]ethyl]-2-(trifluoromethyl)benzamide), in or on alfalfa, forage at 0.25 ppm; alfalfa, hay at 0.80 ppm; rapeseed (canola seed) at 5.0 ppm; corn, sweet, kernel plus cob with husk removed at 0.10 ppm; cotton, gin byproducts at 0.05 ppm; cotton, undelinted seed at 0.10 ppm; grain, cereal, forage, fodder and straw, group 16, except rice; forage at 8.0 ppm; grain, cereal, forage, fodder and straw, group 16, except rice; hay, straw and stover at 14 ppm; grain, cereal, forage, fodder and straw, group 16, except rice; aspirated fractions at 50 ppm; grain, cereal, group 15, except rice and sweet corn at 3.0 ppm; soybean, aspirated fractions at 70 ppm; soybean, forage at 8.0 ppm; soybean, hay at 30 ppm; soybean, hulls at 0.40 ppm; and soybean, seed at 0.30 ppm. Fluopyram was determined to be the only analyte required for analysis based on the metabolic profile in plants, the short pre-harvest intervals analyzed, and results from preliminary residues trials in Europe. The analytical method involves, solvent extraction, filtration, and addition of an isotopically labeled internal standard followed by solid phase extraction. Quantitation is by high performance liquid chromatography-electrospray ionization/tandem mass spectrometry. Contact: Lisa Jones, (703) 308-9424, email address: jones.lisa@epa.gov.

Amended Tolerance

PP 1E7929. (EPA-HQ-OPP-2011-0906). Interregional Research Project Number 4 (IR-4), 500 College Road East, Suite 201 W, Princeton, NJ 08540, requests to remove, upon approval of the aforementioned tolerances in paragraph 3. under “New Tolerances,” the tolerances in 40 CFR 180.601 for residues of the fungicide cyazofamid, 4-chloro-2-cyano-N,N-dimethyl-5-(4-methylphenyl)-1H-imidazole-1-sulfonamide (CA) and its metabolite CCIM, 4-chloro-5-(4-methylphenyl)-1H-imidazole-2-carbonitrile (CA), expressed as cyazofamid, in or on spinach at 9.0 ppm; potato at 0.02 ppm; vegetable, fruiting, group 8 at 0.40 ppm; and okra at 0.40 ppm. These tolerances are being proposed to be removed, as they will be superseded by inclusion in crop group or subgroup tolerances in paragraph 3. under “New Tolerances.” Contact: Laura Nollen, (703) 305-7390, email address: nollen.laura@epa.gov.

New Tolerance Exemption

PP 1E7877. (EPA-HQ-OPP-2011-0934). Dow Corning Corporation, 2200 W. Salzburg Road, Midland, MI 48640, requests to establish an exemption from the requirement of a tolerance for residues of silicic acid, sodium salt, reaction products with chlorotrimethylsilane and isopropyl alcohol, reaction with poly(oxypropylene)-poly(oxyethylene) glycol, in or on the raw agricultural commodity under 40 CFR 180.960, as a component of seed coatings that provide non-sticking when the seeds are in the planter machines, and also control water permeation to slow germination of the seeds at 1,000 ppm. The petitioner believes no analytical method is needed because no analytical method is generally required for the establishment of a tolerance exemption. Contact: Alganesh Debesai, (703) 308-8353, email address: debesai.alganesh@epa.gov.

Amended Tolerance Exemption

PP 0F7758. (EPA-HQ-OPP-2011-0950). Lonza, Inc., 90 Boroline Road, Allendale, NJ 07401, requests to amend an existing exemption from the requirement of a tolerance in 40 CFR 180.940(a) for residues of didecyl dimethyl ammonium carbonate and didecyl ammonium bicarbonate (hereinafter cited jointly as DDACB), in or on food-contact surfaces when applied/used in public eating places, dairy processing equipment, and/or food processing equipment, and utensils at 400 ppm. The petitioner believes no analytical method is needed because the subject quaternary ammonium compounds are exempt from the requirements of a tolerance. Contact: Drusilla Copeland, (703) 308-6224, email address: copeland.drusilla@epa.gov.

List of Subjects in 40 CFR Part 180

Environmental protection, Agricultural commodities, Feed additives, Food additives, Pesticides and pests, Reporting and recordkeeping requirements.

Dated: November 30, 2011.
Daniel J. Rosenblatt,
Acting Director, Registration Division, Office of Pesticide Programs.

[FR Doc. 2011-31560 Filed 12-7-11; 8:45 am]

BILLING CODE 6560-50-P